NUCLEAR REGULATORY COMMISSION

[Docket Nos. 52-018-COL, 52-019-COL, 52-025-COL, 52-026-COL; ASLBP No. 11-913-01-COL-BD01]

Duke Energy Carolinas, LLC; Southern Nuclear Operating Company; Establishment of Atomic Safety and Licensing Board

Pursuant to delegation by the Commission dated December 29, 1972, published in the Federal Register, 37 FR 28,710 (1972), and the Commission's regulations, see, e.g., 10 CFR 2.104, 2.105, 2.300, 2.309, 2.313, 2.318, and 2.321, notice is hereby given that an Atomic Safety and Licensing Board (Board) is being established to preside over this proceeding, which involves the following captioned cases:

Duke Energy Carolinas, LLC, (William States Lee III Nuclear Station, Units 1 and 2), Docket Nos. 52-018-COL & 52-019-COL;

Southern Nuclear Operating Company, (Vogtle Electric Generating Plant, Units 3 and 4), Docket Nos. 52-025-COL & 52-026-COL.

This proceeding was triggered by August 11, 2011 motions filed by the Blue Ridge Environmental Defense League (BREDL) seeking to reopen the record and/or admit a new contention in the two above-captioned cases based on the Fukushima Task Force Report. The contested proceedings in both cases had been terminated at the Atomic Safety and Licensing Board Panel (ASLBP) level, and jurisdiction over BREDL's filings initially lay with the Commission. By Order dated August 18, 2011, the Commission, acting through the Office of the Secretary, referred the pleadings to the ASLBP for appropriate action consistent with 10 CFR 2.309 and 2.326.

The Board is comprised of the following administrative judges:

Alan S. Rosenthal, Chair, Atomic Safety and Licensing Board Panel, U.S. Nuclear Regulatory Commission, Washington, DC 20555-0001;

Dr. Gary S. Arnold, Atomic Safety and Licensing Board Panel, U.S. Nuclear Regulatory Commission, Washington, DC 20555-0001;

Dr. William H. Reed, Atomic Safety and Licensing Board Panel, U.S. Nuclear Regulatory Commission, Washington, DC 20555-0001.

All correspondence, documents, and other materials shall be filed in accordance with the NRC E-Filing rule, which the NRC promulgated in August 2007 (72 FR 49,139).

Dated: Issued at Rockville, Maryland, this 6th day of September 2011.
E. Roy Hawkens,
Chief Administrative Judge, Atomic Safety and Licensing Board Panel.

[FR Doc. 2011-23214 Filed 9-9-11; 8:45 am]

BILLING CODE 7590-01-P